DEPARTMENT OF JUSTICE

Parole Commission

Sunshine Act Meeting

TIME AND DATE: 10 a.m., Tuesday, June 21, 2011.

PLACE: U.S. Parole Commission, 90 K Street, NE., 3rd Floor, Washington, DC.

STATUS: Open.

MATTERS TO BE CONSIDERED: Approval of February 10, 2011 meeting minutes; reports from the Chairman, the Commissioners, and senior staff; discussion of the draft plan for compliance with Executive Order 13563 and analysis of agency rules; discussion of proposed pilot program for sanctioning persons returned to custody for administrative violations; discussion and vote on a final rule on revising guidelines for rating crack cocaine offenses.

CONTACT PERSON FOR MORE INFORMATION: Patricia W. Moore, Staff Assistant to the Chairman, U.S. Parole Commission, 90 K Street, NE., 3rd Floor, Washington, DC 20530, (202) 346-7009.

Dated: June 10, 2011.
Rockne Chickinell,
General Counsel, U.S. Parole Commission.

[FR Doc. 2011-14928 Filed 6-16-11; 8:45 am]

BILLING CODE 4410-31-M